DEPARTMENT OF COMMERCE

International Trade Administration

[A-533-877]

Stainless Steel Flanges From India: Preliminary Results of Antidumping Duty Administrative Review and Partial Rescission; 2021-2022

AGENCY: Enforcement and Compliance, International Trade Administration, Department of Commerce.

SUMMARY: The U.S. Department of Commerce (Commerce) preliminarily finds that producers/exporters of stainless steel flanges (flanges) from India did not make sales of subject merchandise in the United States at prices below normal value (NV) during the period of review (POR) October 1, 2021, through September 30, 2022. In addition, we are rescinding this review for one company. We invite interested parties to comment on these preliminary results.

DATES: Applicable November 6, 2023.

FOR FURTHER INFORMATION CONTACT: Benito Ballesteros or Seth Brown, AD/CVD Operations, Office IX, Enforcement and Compliance, International Trade Administration, Department of Commerce, 1401 Constitution Avenue NW, Washington, DC 20230; telephone: (202) 482-4725 or (202) 482-0029, respectively.

SUPPLEMENTARY INFORMATION:

Background

On October 9, 2018, Commerce published in the Federal Register an antidumping duty order on flanges from India.¹ On December 5, 2022, based on timely requests for review, Commerce initiated an administrative review of the Order covering 15 companies, in accordance with section 751(a) of the Tariff Act of 1930, as amended (the Act).² On June 6, 2023, we extended the deadline for the preliminary results of this administrative review until October 31, 2023.³ For a complete description of the events that followed the initiation of this review, see the Preliminary Decision Memorandum.⁴

¹ See Stainless Steel Flanges from India: Antidumping Duty Order, 83 FR 50639 (October 9, 2018) (Order).

² See Initiation of Antidumping and Countervailing Duty Administrative Reviews, 87 FR 74404 (December 5, 2022); and Initiation of Antidumping and Countervailing Duty Administrative Reviews, 88 FR 7060 (February 2, 2023) (collectively, Initiation Notice).

³ See Memorandum, “Extension of Deadline for Preliminary Results of 2021-2022 Antidumping Duty Administrative Review,” dated June 6, 2023.

⁴ See Memorandum, “Decision Memorandum for the Preliminary Results of the Antidumping Duty Administrative Review of Stainless Steel Flanges from India; 2021-2022,” dated concurrently with, and hereby adopted by, this notice (Preliminary Decision Memorandum).

Scope of the Order

The merchandise covered by the Order is stainless steel flanges from India. For a full description of the scope of the Order, see the Preliminary Decision Memorandum.

Partial Rescission of Administrative Review

Pursuant to 19 CFR 351.213(d)(1), Commerce will rescind an administrative review, in whole or in part, if a party who requested the review withdraws the request within 90 days of the date of publication of the notice of initiation. On March 2, 2023, we received a timely withdrawal request from R.N. Gupta & Company Limited.⁵ Because no other party requested a review of this company, Commerce is rescinding this review with respect to R.N. Gupta & Company Limited, in accordance with 19 CFR 351.213(d)(1).

⁵ See R.N. Gupta's Letter, “Withdrawal of Anti-dumping Duty Administrative Review,” dated March 2, 2023.

Methodology

Commerce is conducting this review in accordance with sections 751(a) of the Act. We calculated export price and constructed export price in accordance with section 772 of the Act. We calculated NV in accordance with section 773 of the Act.

For a full description of the methodology underlying these preliminary results, see the Preliminary Decision Memorandum. A list of topics included in the Preliminary Decision Memorandum is included as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We preliminarily determine the following weighted-average dumping margins exist for the period October 1, 2021, through September 30, 2022:

⁶ See Appendix II for the list of exporters and/or producers not selected for individual review.

Exporter/producer | Weighted- average dumping margin (percent)
Chandan Steel Limited | 0.00
Kisaan Die Tech Private Limited | 0.00
Companies Not Selected for Individual Review ⁶ | 0.00

Review-Specific Rate for Companies Not Selected for Individual Review

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

Where the dumping margins for individually examined respondents are zero, de minimis, or determined based entirely on facts available, section 735(c)(5)(B) of the Act provides that Commerce may use “any reasonable method to establish the estimated all-others rate for exporters and producers not individually investigated . . . .” In this review, Commerce preliminarily calculated weighted-average dumping margins for Chandan Steel Limited (Chandan) and Kisaan Die Tech Private Limited (KDT) of zero percent. Therefore, we are preliminarily assigning a rate of zero percent to the companies not selected for individual examination, in accordance with section 735(c)(5)(B) of the Act.

Assessment Rates

Upon completion of this administrative review, Commerce shall determine, and U.S. Customs and Border Protection (CBP) shall assess, antidumping duties on all appropriate entries. Pursuant to 19 CFR 351.212(b)(1), because the individually-examined respondents reported the entered value for their U.S. sales, we will calculate importer-specific ad valorem antidumping duty assessment rates based on the ratio of the total amount of antidumping duties calculated for the examined sales to the total entered value of those same sales. If either respondent's weighted-average dumping margin is zero or de minimis within the meaning of 19 CFR 351.106(c), or an importer-specific rate is zero or de minimis, we will instruct CBP to liquidate the appropriate entries without regard to antidumping duties.

Commerce's “automatic assessment” practice will apply to entries of subject merchandise during the POR produced by Chandan and KDT for which these companies did not know that the merchandise they sold to an intermediary (e.g., a reseller, trading company, or exporter) was destined for the United States. We will instruct CBP to liquidate those entries at the all-others rate (i.e., 7.00 percent) ⁷ if there is no rate for the intermediate company(ies) involved in the transaction.⁸

⁷ See Stainless Steel Flanges from India: Notice of Court Decision Not in Harmony with the Final Determination of Antidumping Investigation; Notice of Amended Final Determination, 86 FR 50325 (September 8, 2021) (Amended Final Determination).

⁸ For a full discussion of this practice, see Antidumping and Countervailing Duty Proceedings: Assessment of Antidumping Duties, 68 FR 23954 (May 6, 2003).

For the companies which were not selected for individual review, we intend to assign an assessment rate based on the review-specific average rate, calculated as noted in the “Preliminary Results of Review” section, above. The final results of this review shall be the basis for the assessment of antidumping duties on entries of merchandise covered by this review and for future deposits of estimated duties, where applicable.⁹

⁹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which they were examined; (3) if the exporter is not a firm covered in this review, a prior review, or the LTFV investigation, but the producer is, the cash deposit rate will be the rate established for the most recently-completed segment of this proceeding for the producer of the merchandise; and (4) the cash deposit rate for all other producers or exporters will continue to be 7.00 percent, the all-others rate established in the Amended Final Determination.¹⁰ These cash deposit requirements, when imposed, shall remain in effect until further notice.

¹⁰ See Amended Final Determination, 86 FR at 50326.

Disclosure and Public Comment

We intend to disclose the calculations performed in connection with these preliminary results to interested parties within five days after the date of publication of this notice in the Federal Register.¹¹ Pursuant to 19 CFR 351.309(c), interested parties may submit case briefs no later than 30 days after the date of publication of this notice. Rebuttal briefs, limited to issues raised in the case briefs, may be filed not later than seven days after the date for filing case briefs.¹² Parties who submit case briefs or rebuttal briefs in this proceeding are encouraged to submit with each argument: (1) a statement of the issue; (2) a brief summary of the argument; and (3) a table of authorities.¹³ Case and rebuttal briefs should be filed using ACCESS.¹⁴ Note that Commerce has amended certain of its requirements pertaining to the service of documents in 19 CFR 351.303(f).¹⁵

¹¹ See 19 CFR 351.224(b).

¹² Commerce is exercising its discretion, under 19 CFR 351.309(d), to alter the time limit for the filing of rebuttal briefs.

¹³ See 19 CFR 351.309(c)(2) and (d)(2).

¹⁴ See generally 19 CFR 351.303.

¹⁵ See Administrative Protective Order, Service, and Other Procedures in Antidumping and Countervailing Duty Proceedings; Final Rule, 88 FR 67069 (September 29, 2023).

Interested parties who wish to request a hearing must do so within 30 days of publication of these preliminary results by submitting a written request to the Assistant Secretary for Enforcement and Compliance using Enforcement and Compliance's ACCESS system.¹⁶ Hearing requests should contain: (1) the party's name, address, and telephone number; (2) the number of participants: and (3) a list of the issues to be discussed. Oral presentations at the hearing will be limited to issues raised in the case and rebuttal briefs.¹⁷ Parties are reminded that all briefs and hearing requests must be filed electronically using ACCESS and received successfully in their entirety by 5:00 p.m. Eastern Time on the due date. If a request for a hearing is made, parties will be notified of the time and date for the hearing.¹⁸

¹⁶ See 19 CFR 351.310(c).

¹⁷ See 19 CFR 351.310.

¹⁸ See 19 CFR 351.310(d).

Unless otherwise extended, Commerce intends to issue the final results of this administrative review, including the results of its analysis of the issues raised in any written briefs, not later than 120 days after the date of publication of this notice, pursuant to section 751(a)(3)(A) of the Act and 19 CFR 351.213(h)(1).

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of doubled antidumping duties, and/or an increase in the amount of antidumping duties by the amount of countervailing duties.

Notification to Interested Parties

We are issuing and publishing these results in accordance with sections 751(a)(1) and 777(i)(1) of the Act, and 19 CFR 351.213 and 351.221(b)(4).

Dated: October 31, 2023.
Lisa W. Wang,
Assistant Secretary for Enforcement and Compliance.

Appendix I

List of Topics Discussed in the Preliminary Decision Memorandum

I. Summary

II. Background

III. Scope of the Order

IV. Discussion of the Methodology

V. Recommendation

Appendix II

List of Companies Not Selected for Individual Examination

1. Balkrishna Steel Forge Pvt. Ltd.

2. BFN Forgings Private Limited; Bebitz Flanges Works Private Limited; Fanschen werk Bebitz GmbH; Viraj Alloys, Ltd.; Viraj Forgings, Ltd.; Viraj Impoexpo, Ltd.; and Viraj Profiles Limited ¹⁹

¹⁹ Commerce has previously found BFN Forgings Private Limited to be part of a collapsed entity. See, e.g., Stainless Steel Flanges from India: Final Affirmative Determination of Sales at Less Than Fair Value and Final Affirmative Critical Circumstance Determination, 83 FR 40745 (August 16, 2018). The companies which are part of this collapsed entity are listed above.

3. Echjay Forgings Private Limited

4. Fivebros Forging Pvt Ltd.²⁰

²⁰ We incorrectly listed this company as “Fivebros Pvt Ltd.” in the Initiation Notice. See Initiation Notice, 87 FR at 74406.

5. Goodluck India Limited

6. Hilton Metal Forging Limited

7. Jai Auto Pvt. Ltd.

8. Jay Jagdamba Forgings Pvt Ltd

9. Jay Jagdamba Ltd

10. Jay Jagdamba Profile Pvt Ltd

11. Pradeep Metals Limited

12. Shree Jay Jagdamba Flanges Pvt. Ltd.

[FR Doc. 2023-24496 Filed 11-3-23; 8:45 am]

BILLING CODE 3510-DS-P